DEPARTMENT OF COMMERCE

International Trade Administration

[A-570-947]

Certain Steel Grating From the People's Republic of China: Final Results of the Expedited Second Sunset Review of the Antidumping Duty Order

AGENCY: Enforcement and Compliance, International Trade Administration, Department of Commerce.

SUMMARY: The Department of Commerce (Commerce) finds that revocation of the antidumping duty (AD) order on certain steel grating from the People's Republic of China (China) would likely lead to continuation or recurrence of dumping, at the level indicated in the “Final Results of Sunset Review” section of this notice, infra.

DATES: Applicable January 28, 2021.

FOR FURTHER INFORMATION CONTACT: Kristen Ju, AD/CVD Operations, Office IV, Enforcement and Compliance, International Trade Administration, U.S. Department of Commerce, 1401 Constitution Avenue NW, Washington, DC 20230; telephone: (202) 482-3699.

SUPPLEMENTARY INFORMATION:

Background

After publication of the notice of initiation of this sunset review of the AD order on certain steel grating from China,¹ pursuant to section 751(c) of the Tariff Act of 1930, as amended (the Act), the Metal Grating Coalition (Coalition) consisting of Nucor Grating, IKG USA, LLC, Ohio Gratings, Inc., Interstate Gratings, LLC and Lichtgitter USA Inc. (collectively, the domestic interested parties) filed with Commerce a timely and complete notice of intent to participate in the sunset review,² and a timely and adequate substantive response.³ Commerce did not receive a substantive response from any respondent interested party. As a result, pursuant to section 751(c)(3)(B) of the Act and 19 CFR 351.218(e)(1)(ii)(C)(2), Commerce conducted an expedited (120-day) sunset review of the Order.⁴

¹ See Initiation of Five-Year (Sunset) Reviews, 85 FR 61928 (October 1, 2020); see also Certain Steel Grating from the People's Republic of China: Antidumping Duty Order, 75 FR 43143 (July 23, 2010), and Certain Steel Grating From the People's Republic of China: Notice of Correction to the Final Determination of Sales at Less Than Fair Value and Antidumping Duty Order, 75 FR 69626 (November 15, 2010) (collectively, Order).

² See Domestic Interested Parties' Letter, “Steel Grating from the People's Republic of China: Notice of Intent to Participate in Sunset Review,” dated October 16, 2020.

³ See Domestic Interested Parties' Letter, “Steel Grating from the People's Republic of China: Substantive Response to the Notice of Initiation of Sunset Review,” dated November 2, 2020 (Substantive Response).

⁴ For a complete description of the background of this sunset review of the Order, see Memorandum, “Issues and Decision Memorandum for the Expedited Second Sunset Review of the Antidumping Duty Order on Certain Steel Grating from the People's Republic of China,” dated concurrently with, and hereby adopted by, this notice (Issues and Decision Memorandum).

Scope of the Order

The products covered by the order are certain steel grating, consisting of two or more pieces of steel, including load-bearing pieces and cross pieces, joined by any assembly process, regardless of: (1) Size or shape; (2) method of manufacture; (3) metallurgy (carbon, alloy, or stainless); (4) the profile of the bars; and (5) whether or not they are galvanized, painted, coated, clad or plated.

Certain steel grating that is the subject of the order is currently classifiable in the Harmonized Tariff Schedule of the United States (HTSUS) under subheading 7308.90.7000. While the HTSUS subheading is provided for convenience and customs purposes, the written description of the scope of the order is dispositive.

For a full description of the scope of the order, see the Issues and Decision Memorandum.

Analysis of Comments Received

A complete discussion of all issues raised in this sunset review, including the likelihood of continuation or recurrence of dumping in the event of revocation of the Order and the magnitude of the dumping margins likely to prevail if the Order were to be revoked, is provided in the Issues and Decision Memorandum.⁵ A list of the sections in the Issues and Decision Memorandum is attached as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed on the internet at http://enforcement.trade.gov/frn/. The signed and electronic versions of the Issues and Decision Memorandum are identical in content.

⁵ Id.

Final Results of Sunset Review

Pursuant to sections 751(c)(1), 752(c)(1) and (3) of the Act, Commerce determines that revocation of the Order would likely lead to continuation or recurrence of dumping, and that the magnitude of the dumping margins likely to prevail are weighted-average dumping margins up to 145.18 percent.

Administrative Protective Orders

This notice also serves as the only reminder to parties subject to administrative protective order (APO) of their responsibility concerning the return or destruction of proprietary information disclosed under APO in accordance with 19 CFR 351.305. Timely notification of the return or destruction of APO materials, or the conversion to judicial protective order, is hereby requested. Failure to comply with the regulations and terms of an APO is a violation which is subject to sanction.

Notification to Interested Parties

We are issuing and publishing these results and notice in accordance with sections 751(c), 752(c), and 777(i)(1) of the Act, and 19 CFR 351.218 and 19 CFR 351.221(c)(5)(ii).

Dated: January 22, 2021.
Christian Marsh,
Acting Assistant Secretary for Enforcement and Compliance.

Appendix—Sections in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2021-01909 Filed 1-27-21; 8:45 am]

BILLING CODE 3510-DS-P